DEPARTMENT OF DEFENSE

Department of the Army

Intent To Prepare Environmental Impact Statements for Realignment Actions Resulting From the 2005 Base Closure and Realignment Commission's Recommendations

AGENCY: Department of the Army, DoD.

ACTION: Notice of intent.

SUMMARY: The Defense Base Closure and Realignment (BRAC) Commissions were established by Public Law 101-510, the Defense Base Closure and Realignment Act of 1990 (BRAC Law), to recommend military installations for realignment and closure. The 2005 Commission's recommendations were included in a report which was presented to the President on September 8, 2005. The President approved and forwarded this report to Congress on September 16, 2005. Since a joint resolution to disapprove these recommendations did not occur within the statutorily provided time period, these recommendations have become law and must be implemented in accordance with the requirements of the BRAC Law.

The BRAC Law exempts the decision-making process of the Commission from the provisions of the National Environmental Policy Act of 1969 (NEPA). The Law also relieves the Department of Defense from the NEPA requirement to consider the need for closing, realigning, or transferring functions and from looking at alternative installations to close or realign. Nonetheless, the Department of the Army must still prepare environmental impact analyses during the process of property disposal, and during the process of relocating functions from a military installation being closed or realigned to another military installation after the receiving installation has been selected but before the functions are relocated. These analyses will include consideration of the direct and indirect environmental and socioeconomic effects of these actions and the cumulative impacts of other reasonably foreseeable actions affecting the installations.

The Department of the Army intends to prepare individual Environmental Impact Statements (EIS) pursuant to section 102(2)(C) of NEPA, regulations of the Council on Environmental Quality (40 CFR 1500-1508), and the Army NEPA regulation (32 CFR 651 et seq.) for each of the actions listed below.

Opportunities for public participation will be announced in the respective local newspapers. The public will be invited to participate in scoping activities for each EIS and comments from the public will be considered before any action is taken to implement these actions.

Environmental Impact Statements are planned for each of the following realignment actions:

a. Fort Meade, Maryland. The BRAC realignment action will co-locate and consolidate Department of Defense information and information technology missions at Fort Meade.

(1) EIS alternatives could include evaluating siting locations for structures and related projects within Fort Meade that involve new building construction only or new building construction combined with renovation of existing facilities. The alternatives would evaluate areas to provide for construction of, but not be limited to, six to eight 4-story administration buidlings, a full day care child development center, a standard-design Whole Barracks Complex, and a physical fitness center.

(2) The proposed BRAC action may have significant environmental impacts due to the infrastructure and facilities construction that will be required to accommodate an estimated increase of over 5,500 personnel. Significant issues to be analyzed in the EIS may include potential impacts to air quality from increased vehicle emissions, installation and regional traffic increases, land use changes, natural resources, water use, solid waste, cultural resources, and cumulative impacts from increased burdens to the facility based on projected growth.

b. Aberdeen Proving Ground (APG), Maryland. APG will be receiving numerous Army, Navy and Air Force activities to transform it into a full spectrum research, development, acquisition center for Command, Control, Communications, Computers, Intelligence, Surveillance, and Reconnaissance (C4ISR) Defense Chemical and Biological Systems. The Army Test and Evaluation Command Headquarters and Civilian Personnel Offices will also be consolidated at APG.

(1) Alternatives to be examined in the EIS could include alternative distribution of new activities between APG and the Edgewood Area for military field training exercises; alternative siting schemes for placement of buildings and related infrastructure to accommodate an increase of about 15,000 Army personnel within the APG and Edgewood Area. These may include siting schemes for new building construction only, or new building construction combined with renovation of existing facilities.

(2) The proposed BRAC action may have significant environmental impacts due to the large amount of infrastructure and facilities construction that will be required to accommodate an increase of personnel and military training operations. Significant issues to be analyzed in the EIS will include on-post and local air quality conditions, on-post and regional traffic conditions, housing, socioeconomics, noise due to increased vehicle use, threatened and endangered species to include bald eagle habitat, historic buildings and archeological resources, wetlands, biological resources, land use, and community facilities and services.

c. Fort Belvoir, Virginia. Fort Belvoir will be receiving numerous Department of Defense activities from leased space within the National Capital Region (NCR); National Geospatial Intelligence Agency units from various NCR leased locations and Bethesda, Maryland; primary and secondary medical care functions from Walter Reed Medical Center to a new, expanded DeWitt Army Hospital; and inventory control point functions for consumable items to the Defense Logistics Agency from the Naval Support Activist, Mechanisburg and Wright-Patterson Air Force Base, Ohio.

(1) EIS alternatives may consist of moving all activities to the Fort Belvoir Main Post, moving all activities to the Engineer Proving Ground (EPG), or moving a portion of the activities to the Main Point and a portion to the EPG. Other alternatives could include alternative land locations for specific projects within Fort Belvoir, within the EPG, or a combination of both; new construction only; new construction combined with renovation of existing facilities; alternative facility siting schemes, or other modifications of specific projects.

(2) The proposed BRAC action may have significant environmental impacts due to the large amount of infrastructure and facilities construction that will be required to accommodate an estimated increase of over 18,000 personnel. Significant issues to be analyzed in the EIS will include potential impacts to air quality condition in the Northern Virginia region, transportation systems in the Northern Virginia region, traffic conditions with Fort Belvoir, threatened and endangered species, historic buildings and archeological resources, wetlands, biological resources, land use, and community facilities and services.

d. Fort Lee, Virginia. Fort Lee will receive the Transportation Center and School from Fort Eustis, Virginia, and the Ordnance Center and School from Aberdeen Proving Ground, Maryland. These functions will be consolidated with the Quartermaster Center and School, the Army Logistics Management College, and Combined Arms Support Command to establish a Combat Service Support Center at Fort Lee.

(1) Alternatives to be examined in the EIS may include the usage of only Fort Lee for field training exercises, the usage of other military installations (Fort A.P. Hill) for field training exercises, or a combination of both; alternative land locations for specific projects with Fort Lee and Fort A.P. Hill; new construction only; new construction combined with renovation of existing facilities; alternative facility siting schemes, or other modifications of specific projects.

(2) The proposed BRAC action may have significant environmental impacts due to the large amount of infrastructure and facilities construction that will be required to accommodate an estimated increase of over 7,000 personnel. Significant issues to be analyzed in the EIS will include air quality conditions, traffic conditions, noise due to increased training activities, threatened and endangered species, historic buildings and archeological resources, wetlands, biological resources, land use, and community facilities and services.

e. Fort Benning, Georgia. Fort Benning will receive the Armor Center and School from Fort Knox, Kentucky; 81st Regional Readiness Center from Fort Gillem, Georgia; and the U.S. Army Reserve Center from Columbus, Georgia.

(1) Alternatives to be examined by the EIS may consist of alternative siting locations with Fort Benning for facility construction projects, new construction only, renovation and use of existing facilities, or a combination of both new construction and use of existing facilities, and usage of alternatives land locations within Fort Benning for training activities.

(2) As a result of new construction and training activities associated with moving nearly 10,000 personnel to Fort Benning, the BRAC action has the potential to cause significant environmental impacts to threatened and endangered species such as the red-cockaded woodpecker, archeological sites, wetlands, soil erosion, and increased noise impacts to the surrounding public.

f. Fort Sam Houston, Texas. Navy and Air Force medical training activities from various locations within the U.S. and the 59th Medical Wing from Lackland Air Force Base, Texas, will move to Fort Sam Houston to form a Department of Defense medical training center. The Army Installation Management Agency (IMA) Headquarters from Virginia, the Northwest IMA Regional office from Illinois, and the Army Environmental Center from Maryland will also move to Fort Sam Houston.

(1) Alternatives to be examined in the EIS could consist of alternative locations within Fort Sam Houston for siting facility construction, new construction only, renovation and use of existing facilities (to include historic buildings), or a combination of both new construction and use of existing facilities, and usage of alternative locations within Camp Bullis, a sub-post of Fort Sam Houston, for training activities.

(2) As a result of moving approximately 9,000 new personnel to Fort Sam Houston and associated new construction, renovation and training activities, implementing the proposed BRAC action could have potential significant impacts to traffic on and off post, air quality and historic properties, to include contributing elements of the Fort Sam Houston National Historic Landmark District.

g. Fort Carson, Colorado. Fort Carson will receive a Heavy Brigade Combat team and a Unit of Employment Headquarters from Fort Hood, Texas, and the inpatient care services from the U.S. Air Force Academy, Colorado. Another Infantry Brigade Combat Team from overseas could also be transferred to Fort Carson as a result of the BRAC recommendation.

(1) Alternatives that may be considered in the Fort Carson EIS could include phasing movement of units to the fort, alternative siting locations within the post of placement of new facilities, construction of only new facilities, utilization and renovation of existing facilities, a combination of new construction and utilization of existing facilities, and utilization of alternative locations within Fort Carson for training activities.

(2) Fort Carson will gain approximately 10,000 Army personnel as a result of the BRAC action. Construction of new facilities, renovation of existing infrastructure and additional training activities could have significant environmental impacts on Fort Carson and its environs. Impacts could concur to local air and water quality, archaeological resources, noise and traffic.

h. Pinion Canyon Maneuver Site, Colorado. Pinion Canyon Maneuver Site (PCMS) is a subpost of Fort Carson and a primary training area for units stationed at Fort Carson and other Army posts. The new combat units stationed at Fort Carson will increase the training tempo at the PCMS.

(1) The EIS to be prepared for the PCMS will examine a number of implementation alternatives that could include alternative placement of new construction projects, alternative locations within the PCMS for training activities, and alternative timing for units to conduct training activities at the PCMS.

(2) The Fort Carson BRAC action has the potential to significantly impact natural resources at the PCMS since the approximately 10,000 new personnel to be stationed there will now be training at the PCMS on a regular basis. New construction and increased training activities at the PCMS could have an impact on archaeological resources, natural resources, air and water quality, and soil erosion.

FOR FURTHER INFORMATION CONTACT: Public Affairs Office of the affected installations or the appropriate higher headquarters as indicated: (1) Fort Meade, MD—(301) 677-1301; (2) Aberdeen Proving Ground, MD—(410) 278-1147; (3) Fort Belvoir, VA—(703) 805-2583; (4) Fort Lee, VA—(804) 734-6862; (5) Fort Benning, GA—(706) 545-3438; (6) Fort Sam Houston, TX—(210) 221-1099; (7) Fort Carson and Pinion Canyon Maneuver Site, CO—(910) 396-2122/5600.

Dated: November 18, 2005.
Addison D. Davis IV,
Deputy Assistant Secretary of the Army (Environment, Safety and Occupational Health), OASA(I&E).

[FR Doc. 05-23162 Filed 11-22-05; 8:45 am]

BILLING CODE 3710-08-M